INTERNATIONAL TRADE COMMISSION

[Investigation Nos. 701-TA-486 and 731-TA-1195-1196 (Review)]

Utility Scale Wind Towers From China and Vietnam; Cancellation of Hearing for Full Five-Year Reviews

AGENCY: United States International Trade Commission.

ACTION: Notice.

DATES: February 25, 2019.

FOR FURTHER INFORMATION CONTACT: Keysha Martinez (202-205-2136), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these reviews may be viewed on the Commission's electronic docket (EDIS) at http://edis.usitc.gov.

SUPPLEMENTARY INFORMATION: On September 7, 2018, the Commission established a schedule for the conduct of the full five-year reviews (83 FR 46516, September 13, 2018). Effective February 4, 2019, the Commission revised its schedule due to the lapse in appropriations and ensuing cessation of Commission operations (84 FR 2926, February 8, 2019). Pursuant to the schedule, the domestic interested party submitted the sole prehearing brief, and a request to appear at the Commission hearing scheduled for February 28, 2019. No other party has entered an appearance in these reviews. Subsequently, noting that no other party requested to appear at the hearing, counsel for the domestic interested party filed a request to cancel the hearing. Counsel indicated a willingness to submit written responses to any Commission questions in lieu of an actual hearing. Consequently, the public hearing in connection with these reviews, scheduled to begin at 9:30 a.m. on Thursday, February 28, 2019, at the U.S. International Trade Commission Building, is cancelled. Parties to these reviews should respond to any written questions posed by the Commission in their posthearing briefs, which are due to be filed on March 7, 2019.

For further information concerning these reviews see the Commission's notice cited above and the Commission's Rules of Practice and Procedure, part 201, subparts A through E (19 CFR part 201), and part 207, subparts A and C (19 CFR part 207).

Authority: These reviews are being conducted under authority of title VII of the Tariff Act of 1930; this notice is published pursuant to section 207.62 of the Commission's rules.

By order of the Commission.
Issued: February 28, 2019.
Lisa Barton,
Secretary to the Commission.

[FR Doc. 2019-03903 Filed 3-4-19; 8:45 am]

BILLING CODE 7020-02-P